DEPARTMENT OF EDUCATION

National Advisory Committee on Institutional Quality Integrity; Meeting

AGENCY: National Advisory Committee on Institutional Quality and Integrity (NACIQI), Office of Postsecondary Education, U.S. Department of Education.

ACTION: Announcement of an open meeting.

SUMMARY: This notice sets forth the agenda, time, and location for the May 22-24, 2018 meeting of the National Advisory Committee on Institutional Quality and Integrity (NACIQI), and provides information to members of the public regarding the meeting, including requesting to make oral comments. The notice of this meeting is required under § 10(a)(2) of the Federal Advisory Committee Act (FACA) and § 114(d)(1)(B) of the Higher Education Act (HEA) of 1965, as amended.

DATES: The NACIQI meeting will be held on May 22, 23, and 24, 2018, each day from 8:30 a.m. to 5:30 p.m.

ADDRESSES: Double Tree by Hilton Washington DC Crystal City, Washington Ballroom, 300 Army Navy Drive, Arlington, VA 22202

FOR FURTHER INFORMATION CONTACT: Jennifer Hong, Executive Director/Designated Federal Official, NACIQI, U.S. Department of Education, 400 Maryland Avenue SW, Room 271-03, Washington, DC 20202, telephone: (202) 453-7805, or email: Jennifer.Hong@ed.gov.

SUPPLEMENTARY INFORMATION: NACIQI's Statutory Authority and Function: NACIQI is established under § 114 of the HEA. NACIQI advises the Secretary of Education with respect to:

• The establishment and enforcement of the standards of accrediting agencies or associations under subpart 2, part G, Title IV of the HEA, as amended.

• The recognition of specific accrediting agencies or associations.

• The preparation and publication of the list of nationally recognized accrediting agencies and associations.

• The eligibility and certification process for institutions of higher education under Title IV of the HEA and part C, subchapter I, chapter 34, Title 42, together with recommendations for improvement in such process.

• The relationship between (1) accreditation of institutions of higher education and the certification and eligibility of such institutions, and (2) State licensing responsibilities with respect to such institutions.

• Any other advisory function relating to accreditation and institutional eligibility that the Secretary of Education may prescribe by regulation.

Meeting Agenda: Agenda items for the May 2018 meeting are below.

Applications for Renewal of Recognition

1. Academy of Nutrition and Dietetics, Accreditation Council for Education in Nutrition and Dietetics. Scope of Recognition: The accreditation and pre-accreditation, within the United States, of Didactic and Coordinated Programs in Dietetics at both the undergraduate and graduate level, postbaccalaureate Dietetic Internships, and Dietetic Technician Programs at the associate degree level, and for its accreditation of such programs offered via distance education.

2. Accreditation Council on Optometric Education. Scope of

Recognition: The accreditation in the United States of professional optometric degree programs, optometric technician (associate degree) programs, and optometric residency programs, and for the pre-accreditation category of Preliminary Approval for professional optometric degree programs.

3. Association of Advanced Rabbinical and Talmudic Schools, Accreditation Commission. Scope of Recognition: The accreditation and preaccreditation (“Correspondent” and“Candidate”) within the United States of advanced rabbinical and Talmudic schools.

4. Council on Accreditation of Nurse Anesthesia Educational Programs. Scope of Recognition: The accreditation of institutions and programs of nurse anesthesia at the post master's certificate, master's, or doctoral degree levels in the United States, and its territories, including programs offering distance education.

5. Liaison Committee on Medical Education. Scope of Recognition: The accreditation of medical education programs within the United States leading to the M.D. degree.

6. National Association of Schools of Art and Design. Scope of Recognition: For the accreditation throughout the United States of freestanding institutions and units offering art/design and art/design-related programs (both degree- and non-degree-granting), including those offered via distance education.

7. Northwest Commission on Colleges and Universities. Scope of Recognition: The accreditation and preaccreditation (“Candidacy Status”) of postsecondary degree-granting educational institutions in Alaska, Idaho, Montana, Nevada, Oregon, Utah, and Washington, and the accreditation of programs offered via distance education within these institutions.

Compliance Report

1. American Bar Association, Council of the Section of Legal Education and Admissions to the Bar. Findings identified in the October 28, 2016 letter from the senior Department official following the June 23, 2016 NACIQI meeting available at: https://opeweb.ed.gov/aslweb/finalstaffreports.cfm. That letter identifies the following Criterion as areas of noncompliance: 34 CFR 602.15(a)(1), 602.15(a)(2), 602.15(a)(3), 602.16(a)(1)(viii), and 602.17(b). Scope of Recognition: The accreditation throughout the United States of programs in legal education that lead to the first professional degree in law as well as freestanding law schools offering such programs. This recognition also extends to the Accreditation Committee of the Section of Legal Education (Accreditation Committee) for decisions involving continued accreditation (referred to by the agency as “approval”) of law schools.

2. American Osteopathic Association, Commission on Osteopathic College Accreditation. Findings identified in the October 28, 2016 letter from the senior Department official following the June 23, 2016 NACIQI meeting available at: https://opeweb.ed.gov/aslweb/finalstaffreports.cfm. That letter identifies the following Criterion as areas of noncompliance: 34 CFR 602.11, 602.13, 602.15(a)(3), 602.16(a)(1)(i), 602.16(a)(1)(ii), 602.16(a)(1)(iii), 602.16(a)(1)(iv), 602.16(a)(1)(v), 602.16(a)(1)(vi), 602.16(a)(1)(vii), 602.16(a)(1)(viii), 602.16(a)(1)(ix), 602.16(a)(1)(x), 602.16(a)(2), 602.17(a), 602.19(b), 602.20(a), and 602.26(b).

3. American Psychological Association, Commission on Accreditation. Findings identified in the September 22, 2016 letter from the senior Department official following the June 23, 2016 NACIQI meeting available at: https://opeweb.ed.gov/aslweb/finalstaffreports.cfm. That letter identifies the following Criterion as areas of noncompliance: 34 CFR 602.19(a), and 602.20(b). Scope of Recognition: The accreditation in the United States of doctoral programs in clinical, counseling, school and combined professional-scientific psychology; doctoral internship programs in health service psychology; and postdoctoral residency programs in health service psychology. The preaccreditation in the United States of doctoral internship programs in health service psychology; and postdoctoral residency programs in health service psychology.

4. Transnational Association of Christian Colleges and Schools, Accreditation Commission. Findings identified in the October 28, 2016 letter from the senior Department official following the June 23, 2016 NACIQI meeting available at: https://opeweb.ed.gov/aslweb/finalstaffreports.cfm. That letter identifies the following Criterion as areas of noncompliance: 34 CFR 602.15(a)(2), and 602.19(b). Scope of Recognition: The accreditation and preaccreditation (“Candidate” Status) of Christian postsecondary institutions in the United States that offer certificates, diplomas, and associate, baccalaureate, and graduate degrees, including institutions that offer distance education.

Application for an Expansion of Scope

Association of Advanced Rabbinical and Talmudic Schools, Accreditation Commission. Scope of Recognition: The accreditation and preaccreditation (“Correspondent” and “Candidate”) within the United States of advanced rabbinical and Talmudic schools. Requested Scope: The accreditation of advanced Rabbinical and Talmudic institutions in the United States which grant postsecondary degrees such as Associate, Baccalaureate, Masters, Doctorate, First Rabbinic and First Talmudic degrees.

Application for Renewal of Recognition—State Agency for the Approval of Public Postsecondary Vocational Education

Puerto Rico State Agency for the Approval of Public Postsecondary Vocational, Technical Institutions and Programs.

Reducing Regulatory Burden in Accreditation

Update from the U.S. Department of Education on efforts to reduce regulatory burden and improve efficiencies in the accreditation program.

Oversight of For-Profit Institutions' Conversions to Non-Profit Entities

NACIQI received a letter from U.S. Senators Warren, Brown, Murray, Durbin, and Blumenthal, regarding their concerns of for-profit institutions converting to, or attempting to convert to, non-profit entities in order to avoid regulatory scrutiny. This letter is available at: https://sites.ed.gov/naciqi/files/2018/03/2018.01.11-Letter-to-NACIQI-re-sectorial-conversions.pdf. NACIQI will discuss this letter and the issues it raises at the meeting.

Presentation on Outcome Measures (OM) Component of the U.S. Department of Education's Integrated Postsecondary Education Data System (IPEDS) for Inclusion in the Accreditor Dashboards

Presentation by the Western Association of Schools and Colleges, Senior Colleges and University Commission (WSCUC)

WSCUC will present on its Graduation Rate Dashboard tool (GRD), and how the agency uses outcome measures, such as the GRD, as part of its accreditation process. This presentation is responsive to NACIQI's line of inquiry into how accrediting agencies use data to inform the accreditation process.

Subcommittee on Data

The subcommittee on data will report out on its activities since the last NACIQI meeting.

Meeting Discussion

In addition to following the HEA, the FACA, implementing regulations, and the NACIQI charter, as well as its customary procedural protocols, NACIQI inquiries will include the questions and topics listed in the pilot plan it adopted at its December 2015 meeting. A document entitled “June 2016 Pilot Plan” and available at: http://sites.ed.gov/naciqi/files/naciqi-dir/2016-spring/pilot-project-march-2016.pdf, provides further explanation and context framing NACIQI's work. As noted in this document, NACIQI's reviews of accrediting agencies will include consideration of data and information available on the accreditation data dashboards, https://sites.ed.gov/naciqi/files/2017/09/Institutional-Performance-by-Accreditor-June-2017-Corrected.pdf. Accrediting agencies that will be reviewed for renewal of recognition will not be on the consent agenda and are advised to come prepared to answer questions related to the following:

• Decision activities of and data gathered by the agency.

○ NACIQI will inquire about the range of accreditation activities of the agency since its prior review for recognition, including discussion about the various favorable, monitoring, and adverse actions taken. Information about the primary standards cited for the monitoring and adverse actions that have been taken will be sought.

○ NACIQI will also inquire about what data the agency routinely gathers about the activities of the institutions it accredits and about how that data is used in their evaluative processes.

• Standards and practices with regard to student achievement.

○ How does your agency address “success with respect to student achievement” in the institutions it accredits?

○ Why was this strategy chosen? How is this appropriate in your context?

○ What are the student achievement challenges in the institutions accredited by your agency?

○ What has changed/is likely to change in the standards about student achievement for the institutions accredited by your agency?

○ In what ways have student achievement results been used for monitoring or adverse actions?

• Agency activities in improving program/institutional quality.

○ How does this agency define “at risk?”

○ What tools does this agency use to evaluate “at risk” status?

○ What tools does this agency have to help “at risk” institutions improve?

○ What can the agency tell us about how well these tools for improvement have worked?

To the extent NACIQI's questions go to improvement of institutions and programs that are not at risk of falling into noncompliance with agency requirements, the responses will be used to inform NACIQI's general policy recommendations to the Department rather than its recommendations regarding recognition of any individual agency.

The discussions and issues described above are in addition to, rather than substituting for, exploration by Committee members of any topic relevant to recognition.

Submission of Requests To Make an Oral Comment Regarding a Specific Accrediting Agency or State Approval Agency Under Review, or To Make an Oral Comment or Written Statement Regarding Other Issues Within the Scope of NACIQI's Authority

Opportunity to submit a written comment regarding a specific accrediting agency or state approval agency under review was solicited by a previous Federal Register notice published on January 24, 2018 (Vol. 83, No. 16). The comment period for submission of such comments closed on February 16, 2018. A second notice was published on February 22, 2018 (Vol. 83, No. 36) extending the written comment period until March 1, 2018 for the Accrediting Council for Independent Colleges and Schools and the American Bar Association, Council of the Section of Legal Education and Admissions to the Bar. Subsequently, a corrected notice was published on February 28, 2018 (Vol. 83, No. 40) clarifying the scope of written comments that could be submitted regarding the Accrediting Council for Independent Colleges and Schools and the American Bar Association, Council of the Section of Legal Education and Admissions to the Bar. Because all deadlines have passed, no further written comments regarding a specific agency or state approval agency under review will be accepted at this time. Members of the public may submit written statements regarding other issues within the scope of NACIQI's authority for consideration by the Committee in the manner described below. No individual in attendance or making oral presentations may distribute written materials at the meeting. Oral comments may not exceed three minutes.

Written statements and oral comments concerning NACIQI's work outside of a specific accrediting agency under review must be limited to the scope of NACIQI's authority as outlined under section 114 of the HEA.

There are two methods the public may use to request to make a third-party oral comment of three minutes or less at the May 22-24, 2018 meeting. To submit a written statement to NACIQI concerning its work outside a specific accrediting agency under review, please follow Method One.

Method One: Submit a written request by email to the ThirdPartyComments@ed.gov mailbox. Please do not send material directly to NACIQI members. Written statements to NACIQI concerning its work outside a specific accrediting agency under review, and requests to make oral comments, must be received by May 9, 2018, and include the subject line “Oral Comment Request: (agency name),” “Oral Comment Request: (subject)” or “Written Statement: (subject).” The email must include the name(s), title, organization/affiliation, mailing address, email address, telephone number, of the person(s) submitting a written statement or requesting to speak, and a brief summary (not to exceed one page) of the principal points to be made during the oral presentation. All individuals submitting an advance request in accordance with this notice will be afforded an opportunity to speak.

Method Two: Register at the meeting location on May 22, 2018, from 7:30 a.m.-8:30 a.m., to make an oral comment during NACIQI's deliberations. The requestor must provide the subject or agency name on which he or she wishes to comment, in addition to his or her name, title, organization/affiliation, mailing address, email address, and telephone number. A total of up to fifteen minutes for each agenda item will be allotted for oral commenters who register on May 22, 2018 by 8:30 a.m. Individuals will be selected on a first-come, first-served basis. If selected, each commenter's remarks may not exceed three minutes.

Access to Records of the Meeting: The Department will post the official report of the meeting on the NACIQI website within 90 days after the meeting. Pursuant to the FACA, the public may also inspect the materials at 400 Maryland Avenue SW, Washington, DC, by emailing aslrecordsmanager@ed.gov or by calling (202) 453-7615 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Lynn B. Mahaffie,
Deputy Assistant Secretary for Planning, Policy and Innovation.

[FR Doc. 2018-07212 Filed 4-6-18; 8:45 am]

BILLING CODE P